CONSUMER PRODUCT SAFETY COMMISSION

16 CFR Part 1303

Ban of Lead-Containing Paint and Certain Consumer Products Bearing Lead-Containing Paint

AGENCY: Consumer Product Safety Commission.

ACTION: Final rule.

SUMMARY: The Consumer Product Safety Commission (CPSC or Commission) is amending its regulations concerning the ban of lead-containing paint and certain consumer products bearing lead-containing paint.

DATES: This rule is effective on August 14, 2009.

FOR FURTHER INFORMATION CONTACT: Hyun Sun Kim, Office of the General Counsel, Consumer Product Safety Commission, 4330 East West Highway, Bethesda, Maryland 20814, email: hkim@cpsc.gov.

SUPPLEMENTARY INFORMATION: The Commission's regulations at 16 CFR 1303.1 currently define as “banned hazardous products” certain consumer products, including paint and similar surface-coating materials, toys and other articles intended for use by children, and certain furniture articles that are or bear lead-containing paint, that is paint in which the lead content is in excess of 0.06 percent of the weight of the total nonvolatile content of the paint or the weight of the dried paint film. On August 14, 2008, Congress enacted the Consumer Product Safety Improvement Act of 2008 (CPSIA), Public Law 110-314. Section 101(f)(1) of CPSIA mandates that 0.06 percent lead limit of 16 CFR 1303.1 be reduced to 0.009 percent, effective August 14, 2009. Accordingly, the Commission amends 16 CFR 1303.1(a) by substituting “0.009 percent” for “0.06 percent,” to become effective on that date. In addition, section 101(g) provides that any ban or rule promulgated under 16 CFR 1303.1 shall be considered a regulation promulgated under or for the enforcement of section 2(q) of the Federal Hazardous Substances Act (15 U.S.C. 1261(q)). Section 1303.1 is amended accordingly.

List of Subjects in 16 CFR Part 1303

Consumer protection, Hazardous substances, Infants and children, Labeling, Lead poisoning.

Accordingly, 16 CFR part 1303 is amended as follows:

PART 1303—BAN LEAD-CONTAINING PAINT AND CERTAIN CONSUMER PRODUCTS BEARING LEAD-CONTAINING PAINT

1. The authority citation for part 1303 is revised to read as follows:

Authority: Secs. 8, 9, 86 Stat. 1215-1217, as amended 90 Stat. 506, 122 Stat. 3016, (15 U.S.C. 2057, 2058), Sec. 101, 122 Stat. 3016.

2. Amend § 1303.1 by revising paragraphs (a) introductory text and (c) and adding paragraph (d) to read as follows:

§ 1303.1 Scope and application.

(a) In this part 1303, the Consumer Product Safety Commission declares that paint and similar surface-coating materials for consumer use that contain lead or lead compounds and in which the lead content (calculated as lead metal) is in excess of 0.06 percent (0.06 percent is reduced to 0.009 percent effective August 14, 2009 as mandated by Congress in section 101(f) of the Consumer Product Safety Improvement Act of 2008, Pub. L. 110-314) of the weight of the total nonvolatile content of the paint or the weight of the dried paint film (which paint and similar surface-coating materials are referred to hereafter as “lead-containing paint”) are banned hazardous products under sections 8 and 9 of the Consumer Product Safety Act (CPSA), 15 U.S.C. 2057, 2058. The following consumer products are also declared to be banned hazardous products:

* * * * *

(c) The Commission has issued the ban because it has found that there is an unreasonable risk of lead poisoning in children associated with lead content of over 0.06 percent in paints and coatings to which children have access and that no feasible consumer product safety standard under the CPSA would adequately protect the public from this risk. The 0.06 percent is reduced to 0.009 percent effective August 14, 2009 as mandated by Congress in section 101(f) of the Consumer Product Safety Improvement Act of 2008, Public Law 110-314.

(d) Any ban or rule promulgated under 16 CFR 1303.1 shall be considered a regulation of the Commission promulgated under or for the enforcement of section 2(q) of the Federal Hazardous Substances Act (15 U.S.C. 1261(q)).

3. Amend § 1303.2 by revising paragraph (b)(2) to read as follows:

§ 1303.2 Definitions.

* * * * *

(b) * * *

(2) Lead-containing paint means paint or other similar surface coating materials containing lead or lead compounds and in which the lead content (calculated as lead metal) is in excess of 0.06 percent (0.06 percent is reduced to 0.009 percent effective August 14, 2009) by weight of the total nonvolatile content of the paint or the weight of the dried paint film.

* * * * *

Dated: December 15, 2008.
Todd A. Stevenson,
Secretary, Consumer Product Safety Commission.

[FR Doc. E8-30238 Filed 12-18-08; 8:45 am]

BILLING CODE 6355-01-P